DEPARTMENT OF COMMERCE

Foreign-Trade Zones Board

[B-39-2024]

Foreign-Trade Zone (FTZ) 75; Authorization of Production Activity; LG Energy Solution Arizona, Inc.; (Cylindrical Lithium-Ion Battery Cells and Lithium Iron Phosphate Pouch-Type Batteries); Queen Creek, Arizona

On July 8, 2024, City of Phoenix, grantee of FTZ 75, submitted a notification of proposed production activity to the FTZ Board on behalf of LG Energy Solution Arizona, Inc., within Subzone 75V, in Queen Creek, Arizona.

The notification was processed in accordance with the regulations of the FTZ Board (15 CFR part 400), including notice in the Federal Register inviting public comment (89 FR 57851-57852, July 16, 2024). On November 5, 2024, the applicant was notified of the FTZ Board's decision that no further review of the activity is warranted at this time. The production activity described in the notification was authorized, subject to the FTZ Act and the FTZ Board's regulations, including section 400.14.

Dated: November 5, 2024.
Elizabeth Whiteman,
Executive Secretary.

[FR Doc. 2024-26022 Filed 11-7-24; 8:45 am]

BILLING CODE 3510-DS-P